DEPARTMENT OF THE TREASURY

Submission for OMB Review; Comment Request

SUMMARY: The Department of the Treasury will submit the following information collection requests to the Office of Management and Budget (OMB) for review and clearance in accordance with the Paperwork Reduction Act of 1995, on or after the date of publication of this notice.

DATES: Comments should be received on or before March 1, 2017 to be assured of consideration.

ADDRESSES: Send comments regarding the burden estimate, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submission may be obtained by emailing PRA@treasury.gov, calling (202) 622-0934, or viewing the entire information collection request at www.reginfo.gov.

SUPPLEMENTARY INFORMATION: The Department of the Treasury will submit the following information collection requests to the Office of Management and Budget (OMB) for review and clearance in accordance with the Paperwork Reduction Act of 1995, Public Law 104-13, on or after the date of publication of this notice.

Community Development Financial Institutions (CDIF) Fund

OMB Control Number: 1559-0037.

Type of Review: Revision of a currently approved collection.

Title: Certification of Material Events Form.

Form: 201701.

Abstract: A Material Event is defined as an occurrence that affects an organization's strategic direction, mission, or business operation and, thereby, its compliance with the terms and conditions of its allocation or assistance agreement or their status as an entity certified by the CDFI Fund. The CDFI Fund requires this information to prevent fraud, waste, and abuse of Federal funds.

The CDFI Fund implements programs that provide financial assistance in the form of grants, loans, and tax credits to increase the capacity of financial institutions to provide capital, credit, and financial services in underserved markets. Additionally, the CDFI Fund is responsible for confirming certification for Community Development Entities (CDEs) and Community Development Financial Institutions (CDFIs). Organizations that receive Federal financial assistance from the CDFI Fund are required to report Material Events in order to be in compliance with requirements of their award agreements. CDEs and CDFIs are required to report Material Events to maintain their certification status with the CDFI Fund.

Affected Public: Business or other for-profits.

Estimated Total Annual Burden Hours: 50.

Dated: January 25, 2017.
Spencer Clark,
Treasury PRA Clearance Officer.

[FR Doc. 2017-01968 Filed 1-27-17; 8:45 am]

BILLING CODE 4810-70-P